RAILROAD RETIREMENT BOARD

Proposed Collection; Comment Request

SUMMARY: In accordance with the requirement of Section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: RUIA Investigations and Continuing Entitlement; OMB 3220-0025.

Under Section 1(k) of the Railroad Unemployment Insurance Act (RUIA), unemployment and sickness benefits are not payable for any day remuneration is payable or accrues to the claimant. Also Section 4(a-1) of the RUIA provides that unemployment or sickness benefits are not payable for any day the claimant receives the same benefits under any law other than the RUIA. Under Railroad Retirement Board (RRB) regulations, 20 CFR 322.4(a), a claimant's certification or statement on an RRB-provided claim form that he or she did not work on any day claimed and did not receive income such as vacation pay or pay for time lost shall constitute sufficient evidence unless there is conflicting evidence. Further, under 20 CFR 322.4(b), when there is a question raised as to whether or not remuneration is payable or has accrued to a claimant with respect to a claimed day or days, an investigation shall be made with a view to obtaining information sufficient for a finding. The RRB utilizes the following four forms to obtain information from railroad employers, nonrailroad employers, and claimants, that is needed to determine whether a claimed day or days of unemployment or sickness were improperly or fraudulently claimed: Form ID-5i, Request for Employment Information; Form ID-5R (SUP), Report of Employees Paid RUIA Benefits for Every Day in Month Reported as Month of Creditable Service; Form ID-49R, Railroad Payroll Record Check; and Form UI-48, Statement Regarding Benefits Claimed for Days Worked. Completion is voluntary. One response is requested of each respondent.

To qualify for unemployment or sickness benefits payable under Section 2 of the Railroad Unemployment Insurance Act (RUIA), a railroad employee must have certain qualifying earnings in the applicable base year. In addition, to qualify for extended or accelerated benefits under Section 2 of the RUIA, a railroad employee who has exhausted his or her rights to normal benefits must have at least 10 years of railroad service (under certain conditions, military service may be credited as months of railroad service). Accelerated benefits are unemployment or sickness benefits that are payable to a railroad employee before the regular July 1 beginning date of a benefit year if an employee has 10 or more years of service and is not qualified for benefits in the current benefit year.

During the RUIA claims review process, the RRB may determine that unemployment or sickness benefits cannot be awarded because RRB records show insufficient qualifying service and/or compensation. When this occurs, the RRB allows the claimant the opportunity to provide additional information if they believe that the RRB service and compensation records are incorrect.

Depending on the circumstances, the RRB provides the following forms to obtain information needed to determine if a claimant has sufficient service or compensation to qualify for unemployment or sickness benefits. Form UI-9, Statement of Employment and Wages; Form UI-23, Statement of Service for Railroad Unemployment Insurance Benefits; Form UI-44, Claim for Credit for Military Service; Form ID-4F, Advising of Ineligibility for Unemployment Benefits; Form ID-4U, Advising of Service/Earnings Requirements for Unemployment Benefits; Form ID-4X, Advising of Service/Earnings Requirements for Sickness Benefits; Form ID-4Y, Advising of Ineligibility for Sickness Benefits; Form ID-20-1, Advising that Normal Unemployment Benefits Are About to Be Exhausted; Form ID-20-2, Advising the Normal Sickness Benefits Are About to Be Exhausted; and Form ID-20-4, Advising That Normal Sickness Benefits Are About to Be Exhausted/Non-Entitlement. Completion of these forms is required to obtain or retain a benefit. Response is required of each respondent. The RRB proposes to add to Items 4a and 5a of Form UI-48, Statement Regarding Benefits Claimed for Days Worked, two “go to” references to improve navigating the form. The RRB also proposes to remove the following seven forms from the information collection due to under 10 responses a year: ID-4F, ID-4Y, ID-20-1, ID-20-2, ID-20-4, ID-49R, and UI-23.

Estimate of Annual Respondent Burden
[The estimated annual respondent burden is as follows]
Form No. | Annual responses | Time (minutes) | Burden (hours)
ID-5i | 1,050 | 15 | 262
ID-5R (SUP) | 400 | 10 | 67
UI-48 | 14 | 12 | 3
UI-9 | 69 | 10 | 11
UI-44 | 10 | 5 | 1
ID-4U | 35 | 5 | 3
ID-4X | 25 | 5 | 2
Total | 1,603 |  | 349

Additional Information or Comments: To request more information or to obtain a copy of the information collection justification, forms, and/or supporting material, contact Dana Hickman at (312) 751-4981 or Dana.Hickman@RRB.GOV. Comments regarding the information collection should be addressed to Charles Mierzwa, Railroad Retirement Board, 844 North Rush Street, Chicago, Illinois 60611-2092 or emailed to Charles.Mierzwa@RRB.GOV. Written comments should be received within 60 days of this notice.

Charles Mierzwa,
Chief of Information Resources Management.

[FR Doc. 2013-15245 Filed 6-25-13; 8:45 am]

BILLING CODE 7905-01-P